DEPARTMENT OF ENERGY

Federal Energy Regulatory Commission

Combined Notice of Filings #1

October 20, 2010.

Take notice that the Commission received the following electric rate filings:

Docket Numbers: ER10-1756-001.

Applicants: California Independent System Operator Corporation.

Description: California Independent System Operator Corporation submits tariff filing per 35: 2010-10-12 Non Generator Resource Compliance Filing to be effective 9/10/2010.

Filed Date: 10/12/2010.

Accession Number: 20101012-5018.

Comment Date: 5 p.m. Eastern Time on Tuesday, November 02, 2010.

Docket Numbers: ER11-1830-000.

Applicants: California Independent System Operator Corporation.

Description: California Independent System Operator Corporation submits tariff filing per 35.13(a)(2)(iii: 2010-10-19 CAISO Generator Interconnection Procedures Amendment to be effective 12/19/2010.

Filed Date: 10/19/2010.

Accession Number: 20101019-5133.

Comment Date: 5 p.m. Eastern Time on Tuesday, November 09, 2010.

Docket Numbers: ER11-1831-000.

Applicants: Columbus Southern Power Company.

Description: Columbus Southern Power Company submits tariff filing per 35.12: Baseline MBR Concurrence to be effective 10/8/2010.

Filed Date: 10/19/2010.

Accession Number: 20101019-5152.

Comment Date: 5 p.m. Eastern Time on Tuesday, November 09, 2010.

Docket Numbers: ER11-1832-000.

Applicants: Nevada Power Company.

Description: Nevada Power Company submits tariff filing per 35: Cost-Based Rate Schedule No. 114—Compliance Filing to be effective 10/1/2010.

Filed Date: 10/19/2010.

Accession Number: 20101019-5153.

Comment Date: 5 p.m. Eastern Time on Tuesday, November 09, 2010.

Docket Numbers: ER11-1833-000.

Applicants: Indiana Michigan Power Company.

Description: Indiana Michigan Power Company submits tariff filing per 35.12: Baseline MBR Concurrence to be effective 10/8/2010.

Filed Date: 10/19/2010.

Accession Number: 20101019-5155.

Comment Date: 5 p.m. Eastern Time on Tuesday, November 09, 2010.

Docket Numbers: ER11-1834-000.

Applicants: Kentucky Power Company.

Description: Kentucky Power Company submits tariff filing per 35.12: Baseline MBR Concurrence to be effective 10/8/2010.

Filed Date: 10/19/2010.

Accession Number: 20101019-5156.

Comment Date: 5 p.m. Eastern Time on Tuesday, November 09, 2010.

Docket Numbers: ER11-1835-000.

Applicants: Kingsport Power Company.

Description: Kingsport Power Company submits tariff filing per 35.12: Baseline MBR Concurrence to be effective 10/8/2010.

Filed Date: 10/19/2010.

Accession Number: 20101019-5157.

Comment Date: 5 p.m. Eastern Time on Tuesday, November 09, 2010.

Docket Numbers: ER11-1836-000.

Applicants: Sierra Pacific Power Company.

Description: Sierra Pacific Power Company submits tariff filing per 35: Cost-Based Rate Schedule No. 57—Compliance Filing to be effective 10/1/2010.

Filed Date: 10/19/2010.

Accession Number: 20101019-5159.

Comment Date: 5 p.m. Eastern Time on Tuesday, November 09, 2010.

Docket Numbers: ER11-1837-000.

Applicants: Ohio Power Company.

Description: Ohio Power Company submits tariff filing per 35.12: Baseline MBR Concurrence to be effective 10/8/2010.

Filed Date: 10/19/2010.

Accession Number: 20101019-5163.

Comment Date: 5 p.m. Eastern Time on Tuesday, November 09, 2010.

Docket Numbers: ER11-1838-000.

Applicants: Wheeling Power Company.

Description: Wheeling Power Company submits tariff filing per 35.12: Baseline MBR Concurrence to be effective 10/8/2010.

Filed Date: 10/19/2010.

Accession Number: 20101019-5168.

Comment Date: 5 p.m. Eastern Time on Tuesday, November 09, 2010.

Docket Numbers: ER11-1839-000.

Applicants: Avista Corporation.

Description: Avista Corporation submits their Compliance Filing of its Open Access Transmission Tariff to remove the price cap regarding the assignment of Avista transmission pursuant to Order 739, to be effective 10/20/2010.

Filed Date: 10/20/2010.

Accession Number: 20101020-5000.

Comment Date: 5 p.m. Eastern Time on Wednesday, November 10, 2010.

Docket Numbers: ER11-1840-000.

Applicants: Arizona Public Service Company.

Description: Arizona Public Service Company submits tariff filing per 35: Compliance filing pursuant to Order No. 739 to be effective 9/24/2010.

Filed Date: 10/20/2010.

Accession Number: 20101020-5039.

Comment Date: 5 p.m. Eastern Time on Wednesday, November 10, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. 2010-27133 Filed 10-26-10; 8:45 am]

BILLING CODE 6717-01-P